DEPARTMENT OF JUSTICE

Notice of Lodging of Consent Decree Under the Clean Air Act

Notice is hereby given that on September 28, 2011, a proposed Consent Decree in United States and Allegheny County Health Department v. Eastman Chemical Resins, Inc., Civil Action No. 11-1240 was lodged with the United States District Court for the Western District of Pennsylvania. The proposed Consent Decree, lodged on September 28, 2011, resolves the liability of defendant Eastman Chemical Resins, Inc. (“Eastman”) to the United States and the Allegheny County Health Department for violations of the Clean Air Act, 42 U.S.C. 7401 et seq., alleged in a Complaint filed on September 28, 2011. In the Complaint, the United States and the Allegheny County Health Department allege that Eastman violated the Clean Air Act by failing to comply with numerous permits issued pursuant to the Pennsylvania State Implementation Plan. These permits govern emissions of volatile organic compounds from Eastman's manufacturing plant located in West Elizabeth, Pennsylvania.

The Consent Decree requires Eastman, among other things, to install pollution control equipment, perform volatile organic compound (“VOC”) emissions testing, perform monitoring, maintain records, and submit reports and permit applications to the United States and the Allegheny County Health Department. The Consent Decree also requires Eastman to pay a civil penalty of $316,000 to the United States and $316,000 to the Allegheny County Clean Air Fund.

The Department of Justice will receive comments relating to the proposed Consent Decree for a period of thirty (30) days from the date of this publication. Please address comments to the Assistant Attorney General, Environment and Natural Resources Division, by e-mail to pubcomment-ees.enrd@usdoj.gov or regular mail to P.O. Box 7611, U.S. Department of Justice, Washington, DC 20044-7611, and refer to United States and Allegheny County Health Department v. Eastman Chemical Resins, Inc. D.J. Ref. 90-5-2-1-09001.

The Consent Decree may be examined at the Office of the United States Attorney for the Western District of Pennsylvania, 700 Grant Street, Suite 400, Pittsburgh, PA 15219 and at U.S. EPA Region III, 1650 Arch Street, Philadelphia, PA 19103. During the public comment period, the Consent Decree may also be examined on the following Department of Justice Web site, http://www.usdoj.gov/enrd/Consent_Decrees.html. A copy of the Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $20.00 for the Consent Decree only or $32.75 for the Consent Decree and attachments (25 cents per page reproduction cost) payable to the U.S. Treasury or, if by e-mail or fax, forward a check in that amount to the Consent Decree Library at the address above.

Robert Brook,
Assistant Chief, Environmental Enforcement Section Environment and Natural Resources Division.

[FR Doc. 2011-25636 Filed 10-4-11; 8:45 am]

BILLING CODE 4410-15-P